INTERNATIONAL TRADE COMMISSION

[Inv. No. 337-TA-519]

In the Matter of Certain Personal Computers, Monitors, and Components Thereof; Notice of Commission Decision To Terminate the Investigation in Its Entirety Based on a Settlement Agreement Between the Parties

AGENCY: International Trade Commission.

ACTION: Notice.

SUMMARY: Notice is hereby given that the U.S. International Trade Commission has determined to terminate this investigation based on a settlement agreement between the parties.

FOR FURTHER INFORMATION CONTACT: Steven Crabb, Esq., Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, D.C. 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted by the Commission on August 6, 2004, based on a complaint filed by Gateway, Inc. of Poway, California (“Gateway”) under section 337 of the Tariff Act of 1930, as amended, 19 U.S.C. 1337. 69 FR 47956. The complainant alleged violations of section 337 in the importation and sale of certain personal computers, monitors, and components thereof, by reason of infringement of three U.S. patents. The complainant named Hewlett-Packard Company (“HP”) of Palo Alto, California as a respondent. Claims 9-11 and 15-19 of U.S. Patent No. 5,192,999 (“the '999 patent”) remain at issue in this investigation.

On October 6, 2005, the presiding administrative law judge (“ALJ”) issued a final initial determination (“ID”) finding no violation of section 337. On December 1, 2005, the Commission issued notice that it had determined to: (1) Review the ALJ's determination regarding induced infringement of claim 19 of the '999 patent and remand the issue to him for further factual findings and analysis; (2) review the ALJ's determination on obviousness solely for the purpose of clarifying the ID's discussion of Sakraida v. AG Pro, Inc., 425 U.S. 273 (1976); (3) review the ALJ's determination on enablement; and (4) review the issue of inequitable conduct and remand the issue to him for further factual findings and analysis. The Commission did not review, and therefore adopted, the remainder of the ID. On January 12, 2006, the ALJ issued his findings on remand.

On June 2, 2006, Gateway and HP filed a joint motion to terminate the investigation based on a settlement agreement. On June 13, 2006, the IA filed a response in support of the joint motion to terminate the investigation.

The Commission has determined that termination of the investigation would not have an adverse impact on the public interest and that termination based on a settlement agreement is generally in the public interest. Accordingly, the Commission has granted the joint motion to terminate the investigation based on the settlement agreement.

The authority for the Commission's determination is contained in section 337 of the Tariff Act of 1930, as amended (19 U.S.C. 1337), and in section 210.21 of the Commission's Rules of Practice and Procedure (19 CFR. 210.21).

Issued: July 19, 2006.
By order of the Commission.
Marilyn R. Abbott,
Secretary to the Commission.

[FR Doc. E6-11753 Filed 7-24-06; 8:45 am]

BILLING CODE 7020-02-P